Title 3—

The President

Proclamation 10295 of October 29, 2021

Critical Infrastructure Security and Resilience Month, 2021

By the President of the United States of America

A Proclamation

For generations, American infrastructure—from the Erie Canal and the Transcontinental Railroad to the Hoover Dam—has been a cornerstone of our economic power, providing jobs, facilitating transportation, bolstering security, and overcoming barriers posed by distance and geography. During Critical Infrastructure Security and Resilience Month, we renew our commitment to securing and enhancing the resilience of our Nation's critical infrastructure.

Threats to the critical infrastructure that we all depend on, which underpins our economic and national security, are among the most significant and growing concerns for our Nation, including cyber threats, physical threats, and climate threats. Our country has seen how the technologies we rely on can be targeted by criminal activity and how extreme weather exposes the weaknesses in our power, water, communication, and transportation networks. We must do everything we can to safeguard and strengthen the systems that protect us; provide energy to power our homes, schools, hospitals, businesses, and vehicles; maintain our ability to connect; and ensure that we have reliable access to safe drinking water. While our Nation has been resilient as we have navigated this pandemic, we must continue investing in our workforce to keep pace with the threats we face and ensure we are building back better.

I am committed to protecting our critical infrastructure and improving security and resilience efforts across the Nation. Most of our Nation's critical infrastructure—from communication lines to transportation networks—depends on coordination and cooperation among Federal, State, Tribal, and local governments, along with industry partners. That is why, earlier this year, my Administration launched an Industrial Control Systems Cybersecurity Initiative to strengthen the security of our country's critical infrastructure, which has already created 100-day action plans for the electricity and natural gas pipeline sectors, with more to come, and we institutionalized that Initiative with a National Security Memorandum on Improving Cybersecurity for Critical Infrastructure Control Systems. The voluntary initiative is a collaborative effort between the Federal Government and our private sector partners to significantly improve the cybersecurity of our critical systems by providing technologies that detect threats and can respond in essential control system and operational technology networks. The Department of Homeland Security and the National Institute of Standards and Technology are also partnering with the private sector to develop ‘performance goals’—cybersecurity baselines that will improve our Nation's security if critical infrastructure sectors adopt them. Finally, critical infrastructure resilience greatly benefits from close partnerships at home and abroad, and this October, my Administration launched a Counter Ransomware Initiative with more than 30 partners and allies.

At home, my Administration is committed to making a once-in-a-generation investment to prioritize secure, sustainable, and resilient infrastructure. Streamlining access to Federal programs and grants to help States and local government build capacity helps ensure we are modernizing our infrastructure to be more climate-resilient and building a clean energy future that will create millions of jobs. The Bipartisan Infrastructure Deal includes $550 billion for our Nation's roads and bridges, water infrastructure, internet, and more. Our agenda also contains the largest Federal investment in power transmission in our Nation's history, ensuring a more reliable grid that has the capability to carry more renewable energy. These investments will strengthen our Nation and bolster our ability to lead, and they will help mitigate socio-economic disparities, advance racial equity, facilitate equitable recovery, and promote affordable access to opportunities for every American. Protecting our critical transportation infrastructure—including our bridges and roads—takes all of us working together.

A key dimension of the Nation's resilience is safeguarding our democracy, which requires securing our election infrastructure. We have made tremendous progress working with State and local election officials over the past several years, but there is more to be done. We are particularly focused on improving the physical security of election officials as they face increasing threats of violence, securing election systems from cyber attacks, and confronting one of the most significant threats we see today: disinformation campaigns designed to undermine confidence in our elections, and ultimately, confidence in our democracy and our democratic institutions.

The threats against our critical infrastructure are increasingly complex and nuanced, and we all must be prepared to better protect ourselves from malicious actors threatening our cyber and physical security. That means staying vigilant, investing in new security measures, being prepared to respond to threats, and collaborating more with our partners. During Critical Infrastructure Security and Resilience Month, we reaffirm our commitment to protecting our infrastructure today and securing it for tomorrow.

NOW, THEREFORE, I, JOSEPH R. BIDEN JR., President of the United States of America, by virtue of the authority vested in me by the Constitution and the laws of the United States, do hereby proclaim November 2021 as Critical Infrastructure Security and Resilience Month. I call upon the people of the United States to recognize the importance of protecting our Nation's infrastructure and to observe this month with appropriate measures to enhance our national security and resilience.

IN WITNESS WHEREOF, I have hereunto set my hand this twenty-ninth day of October, in the year of our Lord two thousand twenty-one, and of the Independence of the United States of America the two hundred and forty-sixth.

[FR Doc. 2021-24113

Filed 11-2-21; 8:45 am]

Billing code 3395-F2-P